DEPARTMENT OF HOUSING AND URBAN DEVELOPMENT

[Docket No. FR-5603-N-30]

Notice of Proposed Information Collection for Public Comment Emergency Comment Request; Single Family Customer Satisfaction Survey

AGENCY: Office of the Assistant Secretary for Housing, HUD.

ACTION: Notice of proposed information collection.

SUMMARY: The proposed information collection requirement described below has been submitted to the Office of Management and Budget (OMB) for emergency review and approval, as required by the Paperwork Reduction Act. The Department is soliciting public comments on the subject proposal.

DATES: Comments Due Date: May 1, 2012.

ADDRESSES: Interested persons are invited to submit comments regarding this proposal. Comments must be received within seven (7) days from the date of this Notice. Comments should refer to the proposal by name/or OMB approval number) and should be sent to: HUD Desk Officer, Office of Management and Budget, New Executive Office Building, Washington, DC 20503; email: OIRA Submission@omb.epo.gov; fax: 202-395-6974.

FOR FURTHER INFORMATION CONTACT: David Dwyer, Housing Program Officer, Office of Single Family Housing, Department of Housing and Urban Development, 600 East Broad Street, Richmond, VA 23219; telephone (804) 822-4819 (this is not a toll free number) for copies of the proposed forms and other available information.

SUPPLEMENTARY INFORMATION: This Notice informs the public that the U.S. Department of Housing and Urban Development (HUD) has submitted to OMB, for emergency processing, an information collection package with respect to the collection of information for the Single Family customer satisfaction survey.

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Single Family Customer Satisfaction Survey.

Description of Information Collection: This information collection consists of a survey of users of the Department's Federal Housing Administration (FHA) primary contact center. It is designed to determine whether the Department is appropriately and adequately serving their needs. It follows HUD's commitment to use surveys to measure performance and changes in performance.

In addition to the importance HUD management places on the information provided by customers, the Federal Government mandates collecting this information through Executive Order (EO) 12862. This EO mandates that agencies survey their customers to identify the kind and quality of services they want their level of satisfaction with existing services.

FHA operates a contact center designed to provide program guidelines, insurance processing information, and consumer information. In order to evaluate the level of service that is provided to HUD/FHA clients the agency contact center management team requires the input of its clients on the performance of the customer service operation. This operation includes the contracted contact center agents, agency staff that support them, as well as the contact center self-service option available via a web-based frequently asked questions (FAQ) site. The survey includes three separate survey types:

• Internal Resolution: A five question survey to determine satisfaction with questions that required escalation from FHA Resource Center contract staff to agency staff for resolution.

• Escalated Resolution: A five question survey to determine satisfaction with questions that were resolved by contracted FHA Resource Center staff.

• Self-Service Resolution: A four question survey to determine satisfaction with questions resolved via the FHA Resource Center self-service internet site.

OMB control number: 2535-0116.

Agency Form Numbers: N/A.

Members of Affected Public: Private sector, general public, small businesses and other for profits.

Estimation of the total numbers of hours needed to prepare the information collection including number of respondents, frequency of responses, and hours of response:

The charts below summarize the sampling frames, survey samples and projected number of respondents for each survey type. The estimated response rates were derived from testing of the survey instruments. Exhibit 2 shows the estimated burden per respondent and for the project overall.

Respondent group | Respondent universe (annual volume of resource center users) | Survey sample (3% of users) | Estimated response rate | Projected number of completed surveys
Escalated Resolution | 239,341 | 7,180 | 0.30 | 2,154
Internal Resolution | 603,409 | 18,102 | 0.30 | 5,431
Self Service Resolution | 34,420 | 1,033 | 0.30 | 310
Total | 877,170 |  |  | 7,895

The hourly cost per response is based on the per capita income of the United States of $26,059 (US Bureau of the Census, 2010 American Community Survey) and the corresponding hourly earnings of $12.53; the total annualized cost for completing the survey is estimated to be $4,761.40.

Number of respondents | Total burden per respondent (minutes) | Total annual burden hours | Hourly cost | Annual cost
7,895 | 3 | 395 | $12.53 | $4,946.22

Authority: The Paperwork Reduction Act of 1995, 44 U.S.C. Chapter 35, as amended.

Dated: April 17, 2012,
Colette Pollard,
Departmental Paperwork Reduction Act Officer, Office of the Chief Information Officer.

[FR Doc. 2012-9862 Filed 4-23-12; 8:45 am]

BILLING CODE 4210-67-P